DEPARTMENT OF ENERGY

Nuclear Engineering Education Research (NEER) Program Solicitation Number DE-PS07-03ID14540

AGENCY: Idaho Operations Office, DOE.

ACTION: Notice of availability of solicitation for awards of financial assistance.

SUMMARY: The U.S. Department of Energy, Idaho Operations Office, is soliciting applications for research and development grant awards in nuclear engineering topics. It is anticipated that on September 25, 2003, a full text for Solicitation Number DE-PS07-03ID14540 for the 2004 NEER Program will be made available at the Industry Interactive Procurement System (IIPS) Web site at: http://e-center.doe.gov: The deadline for receipt of applications will be on November 12, 2003. Applications are to be submitted via the IIPS Web site. Directions on how to apply and submit applications are detailed under the solicitation on the Web site.

FOR FURTHER INFORMATION CONTACT: Seb Klein, Contract Specialist at kleinsm@id.doe.gov.

SUPPLEMENTARY INFORMATION: The solicitation will be issued in accordance with 10 CFR part 600.6(b), eligibility for awards under this program will be restricted to U.S. colleges and universities with nuclear engineering degree programs or options or an operating research reactor, because the purpose of the Nuclear Engineering Education Research (NEER) program is to (1) support basic research in nuclear engineering; (2) assist in developing nuclear engineering students; and (3) contribute to strengthening the academic community's nuclear engineering infrastructure.

The statutory authority for this program is Pub. L. 95-91.

Issued in Idaho Falls on September 22, 2003.
Michael L. Adams,
Acting Director, Procurement Services Division.

[FR Doc. 03-24873 Filed 9-30-03; 8:45 am]

BILLING CODE 6450-01-P